DEPARTMENT OF TRANSPORTATION

Federal Aviation Administration

Notice of Cancellation of Environmental Impact Statement for Proposed Capacity Enhancements and Other Improvements at Charlotte Douglas International Airport, Charlotte, Mecklenburg County, NC

AGENCY: Federal Aviation Administration (FAA), Department of Transportation (DOT).

ACTION: Notice of Cancellation of Preparation of Environmental Impact Statement (EIS) by the Federal Aviation Administration (FAA) for proposed capacity enhancements and other improvements (Proposed Action) at Charlotte Douglas International Airport, Charlotte, NC.

SUMMARY: The Federal Aviation Administration (FAA) announces that it has discontinued preparation of an Environmental Impact Statement (EIS) for proposed capacity enhancements and other improvements (Proposed Action) at Charlotte Douglas International Airport (CLT), Charlotte, NC. The Proposed Action initially presented to the FAA entailed: (1) A Fourth 12,000-foot Parallel Runway 1-19 and End-Around Taxiways; (2) Concourse B and Ramp Expansion; (3) Concourse C and Ramp Expansion; and (4) Daily North Parking Deck. Based on developments during the National Environmental Policy Act, 42 U.S.C. 4321 et seq. (NEPA), review process, the project now subject to environmental review includes a fourth parallel runway of only 10,000 feet. The FAA determined that this was a sufficient change to one of the proposed capacity enhancements, as described in greater detail below in the Supplementary Information section of this Notice, to warrant cancellation of the EIS and conversion to an Environmental Assessment (EA).

DATES: Cancellation of this EIS is immediate.

ADDRESSES: Mail all comments, statements, or questions concerning this notice to: Mr. Tommy L. Dupree, Assistant Manager, Memphis Airports District Office, 2600 Thousand Oaks Blvd., Suite 2250, Memphis, TN 38118. You may also send comments to CLTEIS@faa.gov.

In addition, one copy of any comment submitted to the FAA should be mailed or delivered to Mr. Jack Christine, Chief Operating Officer, City of Charlotte Aviation Department, 5601 Wilkinson Boulevard, Charlotte, NC 28208.

SUPPLEMENTARY INFORMATION: On March 22, 2018, the FAA published in the Federal Register a Notice of Intent (NOI) to prepare an EIS and to conduct public and agency scoping meetings (Volume 83, Number 05583, FR 12369-12640). The FAA held two governmental agency scoping meetings for Federal, state, and local regulatory agencies in Raleigh, NC, on April 24, 2018 and Charlotte, NC, on April 25, 2018, in addition to two public scoping meetings for the general public in Charlotte, NC, on April 24 and 26, 2018. FAA issued a Notice to Proceed for the EIS April 24, 2017.

In October 2018, FAA conducted an EIS runway length analysis for the proposed 12,000-foot runway, and the analysis determined that only a 10,000-foot runway was required to meet the purpose and need. The analysis was coordinated with the City of Charlotte and its airline tenants. Given this change to a major element of the sponsor's Proposed Action, the FAA began a process of reevaluating the appropriate level of environmental documentation for compliance with NEPA, the Council on Environmental Quality Regulations for Implementing the Procedural Provisions of NEPA (40 Code of Federal Regulations parts 1500-1508), FAA Order 1050.1F, Environmental Impacts: Policies and Procedures, and FAA Order 5050.4B, National Environmental Policy Act (NEPA) Implementing Instructions for Airport Actions. This evaluation focused on likely changes to environmental impacts anticipated to occur as a result of the runway length change.

In determining the appropriate level of environmental review going forward, the sponsor, at the request of the FAA, has performed a preliminary noise analysis of the revised Proposed Action. In addition, the FAA has evaluated potential changes in other anticipated environmental impact categories. The FAA has also considered potential mitigation for such impacts. In light of this review, the FAA anticipates that compliance with NEPA can adequately be achieved by preparation of an EA. The City of Charlotte will be responsible for the development of the EA in accordance with NEPA, all applicable federal regulations, and FAA guidance. In addition, the FAA will work with the City of Charlotte to ensure an appropriate level of public involvement is provided as part of the EA process. Once completed, the City will forward the environmental document to the FAA. The FAA remains the responsible Federal agency for compliance with the requirements of NEPA. In this capacity, FAA will make its own independent evaluation of the environmental issues and take responsibility for the scope and content of the EA. The FAA also will make a final decision on whether it can issue a satisfactory environmental finding based upon the EA. The FAA will thereafter determine whether it may take the federal actions necessary to allow implementation of the project. All questions concerning the development, commencement, and public notices related to the EA, should be directed to The City of Charlotte Aviation Department, Mr. Jack Christine, Chief Operating Officer, 5601 Wilkinson Boulevard, Charlotte, NC 28208.

More information on the Proposed Action and the NEPA process is available on the project website at: www.clteis.com.

Issued in Memphis, Tennessee on February 21, 2019.
Phillip J. Braden,
Manager, Memphis Airports District Office, Southern Region.

[FR Doc. 2019-03434 Filed 2-26-19; 8:45 am]

BILLING CODE 4910-13-P